DEPARTMENT OF COMMERCE

National Oceanic and Atmospheric Administration

Agency Information Collection Activities; Submission to the Office of Management and Budget (OMB) for Review and Approval; Comment Request; West Coast Region Groundfish Trawl Fishery Monitoring and Catch Accounting Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 9, 2024, during a 60-day comment period. This notice allows for an additional 30 days for public comments.

Agency: National Oceanic & Atmospheric Administration (NOAA), Commerce.

Title: West Coast Region Groundfish Trawl Fishery Monitoring and Catch Accounting Program.

OMB Control Number: 0648-0619.

Form Number(s): None.

Type of Request: Regular submission (extension of a current information collection).

Number of Respondents: 153.

Average Hours per Response: For 5 existing observer providers: 2 hours for preparation and submission of the annual observer provider permit renewal application. For 1 new observer provider: 10 hours for observer provider permit application preparation and submission. For 1 observer provider: 4 hours for a written response and submission of an appeal if an observer provider permit is denied. For 45 catch monitors: 1 hour for submission of qualifications to work as a catch monitor. For 5 catch monitors: 4 hours for a written response and submission of an appeal if a catch monitor permit is denied. For 16 vessels in the Mothership or Catcher/Processor fleet, 30 minutes or less for satisfying requirements for use of at-sea scales, including daily testing reports (30 minutes), daily catch and cumulative weight reports (10 minutes), audit trail (1 minute), calibration log (2 minutes), and fault log (3 minutes).

Total Annual Burden Hours: 447 hours.

Needs and Uses: This request is for extension of the current collection for the West Coast Region Groundfish Trawl Fishery Monitoring and Catch Accounting Program. In January 2011, the National Oceanic and Atmospheric Administration's (NOAA) National Marine Fisheries Service (NMFS) implemented a trawl rationalization program, a catch share program, for the Pacific coast groundfish fishery's trawl fleet. The program was developed through Amendment 20 to the Groundfish Fishery Management Plan (FMP), under the authority of the Magnuson-Stevens Fishery Conservation and Management Act (16 U.S.C. 1801 et seq.) and consists of an individual fishing quota (IFQ) program for the shorebased trawl fleet (including whiting and non-whiting fisheries); and cooperative (coop) programs for the at-sea mothership (MS) and catcher/processor (C/P) trawl fleets (whiting only). Fixed allocations to the limited entry trawl fleet were developed through a parallel process with Amendment 21 to the FMP. The regulations implementing the program were effective January 1, 2011; all of the necessary tracking systems to make the program operational became active on January 11, 2011, the date fishing began under the new program. Since that time, the Council and NMFS have been addressing implementation issues as they arise. To achieve individual accountability for catch and bycatch and track total catch, the shorebased IFQ Program is subject to 100 percent monitoring both at-sea and dockside. In addition to 100 percent monitoring at-sea, motherships and catcher/processors are subject to flow scale requirements that include daily testing, reporting, and an annual inspection.

Affected Public: Business or other for-profit organizations.

Frequency: Reporting on occasion, daily, weekly, or annually.

Respondent's Obligation: Mandatory.

Legal Authority: Magnuson-Stevens Fishery Conservation and Management Act. US Code 16 U.S.C. 1801 et seq. And CFR Citation 50 CFR 660.15

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0619.

Sheleen Dumas,
Department PRA Clearance Officer, Office of the Under Secretary for Economic Affairs, Commerce Department.

[FR Doc. 2024-08914 Filed 4-24-24; 8:45 am]

BILLING CODE 3510-22-P